NATIONAL SCIENCE FOUNDATION

Notice of Meeting; Advisory Committee for Polar Programs

In accordance with Federal Advisory Committee Act (Pub. L. 92-463, as amended), the National Science Foundation announces the following meeting:

Name: Advisory Committee for Polar Programs (1130).

Date/Time: November 15, 2004, 8 a.m. to 5 p.m.; November 16, 2004, 8 a.m. to 3 p.m.

Place: National Science Foundation, 4201 Wilson Boulevard, Stafford II, Room 595.

Type of Meeting: Open.

Contact Person: Altie Metcalf, Office of Polar Programs (OPP), National Science Foundation, 4201 Wilson Boulevard, Arlington, VA 22230, (703) 292-8030.

Minutes: May be obtained from the contact person list above.

Purpose of Meeting: To advise NSF on the impact of its policies, programs, and activities of the polar research community; to provide advice to the Director of OPP on issues related to long range planning, and to form ad hoc subcommittees to carry out needed studies and tasks.

Agenda: Staff presentations on program updates; review of the Committee of Visitors' report on the Polar Research Support Section; and discussions on International Polar Year.

Dated: October 12, 2004.
Susanne Bolton,
Committee Management Officer.

[FR Doc. 04-23169 Filed 10-14-04; 8:45 am]

BILLING CODE 7555-01-M